DEPARTMENT OF DEFENSE

Department of the Air Force

Active Duty Service Determinations for Civilian or Contractual Groups

On February 21, 2003, the Secretary of the Air Force, acting as Executive Agent of the Secretary of Defense, determined that the service of the group known as the “Uniformed Aviation Industry Contract Technical Specialists Assigned to Extended Duty at Ladd Field, Alaska, to Test Army Air Force Airplanes as Part of the Cold Weather Testing Detachment from February 1, 1942, through February 22, 1944” shall not be considered “active duty” for purposes of all laws administered by the Department of Veterans Affairs (VA).

For further information contact Mr. James D. Johnston at the Secretary of the Air Force Personnel Council (SAFPC); 1535 Command Drive, EE Wing, 3d Fl., Andrews AFB, MD 20762-7002.

Pamela D. Fitzgerald,
Air Force Federal Register Liaison Officer.

[FR Doc. 03-5439 Filed 3-6-03; 8:45 am]

BILLING CODE 5001-05-P